DEPARTMENT OF TRANSPORTATION

Federal Aviation Administration

14 CFR Part 39

[Docket No. FAA-2016-9143; Directorate Identifier 2013-SW-037-AD]

RIN 2120-AA64

Airworthiness Directives; Airbus Helicopters

AGENCY: Federal Aviation Administration (FAA), DOT.

ACTION: Notice of proposed rulemaking (NPRM).

SUMMARY: We propose to adopt a new airworthiness directive (AD) for Airbus Helicopters Model EC225LP helicopters. This proposed AD would require modifying the emergency lubrication system (EMLUB). This proposed AD is prompted by two incidents of emergency ditching after there was a warning of a loss of oil pressure and a false EMLUB failure. The proposed actions are intended to address an unsafe condition on these products.

DATES: We must receive comments on this proposed AD by May 15, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2016-9143; or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed AD, contact Airbus Helicopters, 2701 N. Forum Drive, Grand Prairie, TX 75052; telephone (972) 641-0000 or (800) 232-0323; fax (972) 641-3775; or at http://www.airbushelicopters.com/techpub.

You may review the referenced service information at the FAA, Office of the Regional Counsel, Southwest Region, 10101 Hillwood Pkwy., Room 6N-321, Fort Worth, Texas 76177.

FOR FURTHER INFORMATION CONTACT: Rao Edupuganti, Aviation Safety Engineer, Regulations and Policy Group, Rotorcraft Directorate, FAA, 10101 Hillwood Pkwy., Fort Worth, Texas 76177; telephone (817) 222-5110; email rao.edupuganti@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2013-0156, dated July 18, 2013, to correct an unsafe condition for Airbus Helicopters (formerly Eurocopter) Model EC225LP helicopters. EASA advises of two incidents of emergency ditching in the North Sea after a warning indication of MGB loss of oil pressure and subsequent additional red alarm on the EMLUB. In both cases, the EMLUB provided a false failure indication. EASA states in its AD that the EMLUB system was designed to guarantee 30 minutes of continued safe flight in the event of total loss of the dual oil lubrication system of the MGB.

According to EASA, an investigation revealed that a design nonconformity on the electrical outputs of some EMLUB air and glycol pressure-switches, resulting in a connection inconsistency between the pressure switches' electrical pins and the helicopter wiring, caused the false EMLUB warnings. EASA states that a false red EMLUB warning during an MGB emergency lubrication system operation could cause the flight crew to perform an immediate landing or ditching. As a result, EASA required several modifications that restore safe operation of the EMLUB system for the full Model EC225LP flight envelope. Modifications, include installing a new glycol pump and new air and glycol pressure switches, wiring harness modifications, and installing an improved EMLUB electronic board. The EASA AD also specifies a new amendment to the Rotorcraft Flight Manual (RFM) emergency procedures and prohibits installing some EMLUB parts.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information Under 1 CFR Part 51

We reviewed Eurocopter (now Airbus Helicopters) Alert Service Bulletin (ASB) No. EC225-05A033, Revision 0, dated July 14, 2013, for Model EC225LP helicopters. This ASB specifies replacing the air and glycol pressure switches, modifying the helicopter wiring, replacing the glycol pump, replacing the MGB lubrication card, modifying the RFM emergency procedures in the event of EMLUB activation, and canceling the RFM limitations of Emergency ASB (EASB) No. 04A010, Revision 1, dated July 14, 2013.

This service information is reasonably available because the interested parties have access to it through their normal course of business or by the means identified in the ADDRESSES section.

Other Related Service Information

We reviewed the following Eurocopter (now Airbus Helicopters) EASBs, each dated July 14, 2013:

• EASB, Revision 1, with two different numbers: No. 04A010 for Model EC225LP helicopters and No. 04A009 for military Model EC725AP helicopters, which are not FAA type certificated. This EASB specifies modifying the RFM emergency procedures in the event of activation of the EMLUB system and applies only to those helicopters that have not been altered by certain modifications.

• EASB No. 05A032, Revision 2, for both Model EC225LP and military Model EC725AP helicopters. This EASB specifies checking that the EMLUB electrical system (harness, control, alarm, and indicator panel) operates correctly and applies only to those helicopters that have not been altered by certain modifications (the same as those for EASB No. 04A010 and No. 04A009).

Proposed AD Requirements

This proposed AD would require, within 500 hours time-in-service:

• Replacing the EMLUB glycol pump.

• Replacing the air and glycol pressure switches with switches from the same manufacturer.

• Modifying and re-identifying the helicopter wiring harness.

• Replacing the MGB lubrication card.

• Testing the function of the EMLUB system and the electrical system.

• Revising the Emergency Procedures section of the RFM.

The proposed AD would also prohibit installing on any helicopter an EMLUB glycol pump part number (P/N) 332A32-5051-00, air pressure-switch P/N MA193-00 or P/N MC7014-0-00, glycol pressure-switch P/N MA194-01 or P/N MC7015-0-00, or an electronic board P/N 704A46580106 or P/N 704A46580127.

Costs of Compliance

We estimate that this proposed AD would affect 4 helicopters of U.S. Registry.

We estimate that operators may incur the following costs to comply with this AD:

The estimated labor cost is $85 per work hour. We estimate a total of 34 work hours to replace the air and glycol pressure switches, modify the helicopter wiring, replace the glycol pump, and replace the MGB lubrication card. The required parts would cost $121,695 per helicopter. Based on these estimates, the total cost would be $124,585 per helicopter and $498,340 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters (Formerly Eurocopter France): Docket No. FAA-2016-9143; Directorate Identifier 2013-SW-037-AD.

(a) Applicability

This AD applies to Model EC225LP helicopters, certificated in any category.

(b) Unsafe Condition

This AD defines the unsafe condition as a false emergency lubrication system (EMLUB) warning. This condition when associated with a loss of the main gearbox (MGB) oil pressure could result in an unnecessary emergency landing or ditching.

(c) Comments Due Date

We must receive comments by May 15, 2017.

(d) Compliance

You are responsible for performing each action required by this AD within the specified compliance time unless it has already been accomplished prior to that time.

(e) Required Actions

(1) Within 500 hours time-in-service:

(i) Replace EMLUB glycol pump part number (P/N) 332A32-5051-00 with EMLUB glycol pump P/N 332A32-5043-00.

(ii) Replace EMLUB air pressure switch P/N MA193-00 or MC7014-0-00 with P/N MC7014-1-00, and replace EMLUB glycol pressure switch P/N MA194-01 or MC7015-0-00 with P/N MC7015-1-00. P/N MC7014-1-00 and P/N MC7015-1-00 must be from the same manufacturer.

(iii) Modify and re-identify the helicopter wiring harness. Refer to Figure 3 of Eurocopter Alert Service Bulletin No. EC225-05A033, Revision 0, dated July 14, 2013 (ASB EC225-05A033).

(iv) Replace MGB lubrication card P/N 704A46580127 with P/N 704A46580146, and MGB lubrication card P/N 704A46580106 with P/N 704A46580146 or -147.

(v) Accomplish a functional test of the EMLUB system and the electrical system.

(vi) Revise the Emergency Procedures section of the Rotorcraft Flight Manual (RFM) by removing any pages from Section 3 of the RFM that pertain to the emergency procedures in the event of EMLUB activation and by inserting the pages from paragraph 4.C. Appendix 3, of ASB EC225-05A033 into Section 3 of the RFM.

(2) Do not install on any helicopter EMLUB glycol pump P/N 332A32-5051-00, air pressure-switch P/N MA193-00 or P/N MC7014-0-00, glycol pressure-switch P/N MA194-01 or P/N MC7015-0-00, or electronic board P/N 704A46580106 or P/N 704A46580127.

(f) Special Flight Permit

Special flight permits are prohibited.

(g) Alternative Methods of Compliance (AMOCs)

(1) The Manager, Safety Management Group, FAA, may approve AMOCs for this AD. Send your proposal to Rao Edupuganti, Aviation Safety Engineer, Regulations and Policy Group, Rotorcraft Directorate, FAA, 10101 Hillwood Pkwy., Fort Worth, Texas 76177; telephone (817) 222-5110; email rao.edupuganti@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Emergency Alert Service Bulletin (ASB) No.05A032, Revision 2, dated July 14, 2013, and Emergency ASB with two numbers (No. 04A010 and No. 04A009), Revision 1, dated July 14, 2013, which are not incorporated by reference, contain additional information about the subject of this AD. For service information identified in this AD, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, Texas 76177.

(2) The subject of this AD is addressed in European Aviation Safety Agency (EASA) AD 2013-0156, dated July 18, 2013. You may view the EASA AD on the Internet at http://www.regulations.gov in Docket No. FAA-2016-9143.

(i) Subject

Joint Aircraft Service Component (JASC) Code: 6320, Main Rotor Gearbox.

Issued in Fort Worth, Texas, on March 1, 2017.
Scott A. Horn,
Acting Manager, Rotorcraft Directorate, Aircraft Certification Service.

[FR Doc. 2017-04736 Filed 3-13-17; 8:45 am]

BILLING CODE 4910-13-P